DEPARTMENT OF THE INTERIOR

Bureau of Land Management

[ID-075-1830-XZ]

Change of Address/Relocation and Public Room Closure: Idaho BLM

AGENCY: Bureau of Land Management, Interior.

ACTION: Notice.

SUMMARY: Effective on or about October 14, 2003, the Pocatello Field Office will be relocating to 4350 Cliffs Drive, Pocatello, Idaho 83204. Please address all correspondence to this address after October 10, 2003.

Because of the relocation of the BLM Pocatello Field Office, certain records will be unavailable for inspection and the Public Room will be closed on the following dates: October 8 through October 22, 2003. We plan to have the Public Room open for business and records review on October 27, 2003 from 7:45 a.m. to 4:15 p.m., normal Public Room hours. Records and services associated with the Public Claim Records and Computerized Reports, GLO Survey Records, Patent Records, Right-of-Way Records, and Map Sales will be unavailable for approximately 1 week during the records transfer to the new location. For records availability dates, contact the Pocatello Field Office at (208) 478-6340.

EFFECTIVE DATE: October 8, 2003.

FOR FURTHER INFORMATION CONTACT: Philip Damon, BLM, Pocatello Field Office, 1111 North 8th Street, Pocatello, Idaho 83201, (208) 478-6341.

Dated: September 8, 2003.
K. Lynn Bennett,
State Director.

[FR Doc. 03-23242 Filed 9-11-03; 8:45 am]

BILLING CODE 4310-GG-M